DEPARTMENT OF EDUCATION

Federal Need Analysis Methodology for the 2019-20 Award Year—Federal Pell Grant, Federal Work-Study, Federal Supplemental Educational Opportunity Grant, William D. Ford Federal Direct Loan, Iraq and Afghanistan Service Grant, and TEACH Grant Programs

Correction

In notice document 2018-10586 appearing on pages 22967-22971 in the issue of May 17, 2018, make the following corrections:

1. On pages 22968-22969, table “Parents of Dependent Students” is corrected as set forth below:

Parents of Dependent Students
If the age of the older parent is | And they are: Married | And they are: Single
| Then the education savings and asset protection allowance is
25 or less | 0 | 0
26 | 700 | 300
27 | 1,300 | 700
28 | 2,000 | 1,000
29 | 2,600 | 1,400
30 | 3,300 | 1,700
31 | 4,000 | 2,100
32 | 4,600 | 2,400
33 | 5,300 | 2,800
34 | 5,900 | 3,100
35 | 6,600 | 3,500
36 | 7,300 | 3,800
37 | 7,900 | 4,200
38 | 8,600 | 4,500
39 | 9,200 | 4,900
40 | 9,900 | 5,200
41 | 10,100 | 5,300
42 | 10,400 | 5,500
43 | 10,600 | 5,600
44 | 10,900 | 5,700
45 | 11,100 | 5,800
46 | 11,400 | 6,000
47 | 11,600 | 6,100
48 | 11,900 | 6,200
49 | 12,200 | 6,400
50 | 12,500 | 6,500
51 | 12,900 | 6,700
52 | 13,200 | 6,800
53 | 13,500 | 7,000
54 | 13,900 | 7,200
55 | 14,300 | 7,300
56 | 14,700 | 7,500
57 | 15,100 | 7,700
58 | 15,500 | 7,900
59 | 15,900 | 8,100
60 | 16,400 | 8,300
61 | 16,800 | 8,500
62 | 17,300 | 8,800
63 | 17,800 | 9,000
64 | 18,300 | 9,200
65 or older | 18,900 | 9,500

2. On page 22969, table “Independent Students Without Dependents Other Than a Spouse” is corrected as set forth below:

Independent Students With Dependents Other Than a Spouse
If the age of the student is | And they are: Married | And they are: Single
| Then the education savings and asset protection allowance is
25 or less | 0 | 0
26 | 700 | 300
27 | 1,300 | 700
28 | 2,000 | 1,000
29 | 2,600 | 1,400
30 | 3,300 | 1,700
31 | 4,000 | 2,100
32 | 4,600 | 2,400
33 | 5,300 | 2,800
34 | 5,900 | 3,100
35 | 6,600 | 3,500
36 | 7,300 | 3,800
37 | 7,900 | 4,200
38 | 8,600 | 4,500
39 | 9,200 | 4,900
40 | 9,900 | 5,200
41 | 10,100 | 5,300
42 | 10,400 | 5,500
43 | 10,600 | 5,600
44 | 10,900 | 5,700
45 | 11,100 | 5,800
46 | 11,400 | 6,000
47 | 11,600 | 6,100
48 | 11,900 | 6,200
49 | 12,200 | 6,400
50 | 12,500 | 6,500
51 | 12,900 | 6,700
52 | 13,200 | 6,800
53 | 13,500 | 7,000
54 | 13,900 | 7,200
55 | 14,300 | 7,300
56 | 14,700 | 7,500
57 | 15,100 | 7,700
58 | 15,500 | 7,900
59 | 15,900 | 8,100
60 | 16,400 | 8,300
61 | 16,800 | 8,500
62 | 17,300 | 8,800
63 | 17,800 | 9,000
64 | 18,300 | 9,200
65 or older | 18,900 | 9,500

[FR Doc. C1-2018-10586 Filed 6-7-18; 8:45 am]

BILLING CODE 1301-00-D